DEPARTMENT OF TRANSPORTATION

Federal Aviation Administration

Thirty Third RTCA SC-216 Aeronautical Systems Security Plenary

AGENCY: Federal Aviation Administration (FAA), U.S. Department of Transportation (DOT).

ACTION: Thirty Third RTCA SC-216 Aeronautical Systems Security Plenary.

SUMMARY: The FAA is issuing this notice to advise the public of a meeting of Thirty Third RTCA SC-216 Aeronautical Systems Security Plenary.

DATES: The meeting will be held July 24-28, 2017, 09:00 a.m.-05:00 p.m. All times are Central European Summer Time (UTC+2).

ADDRESSES: The meeting will be held at: Airbus Training Center, Hein-Saß-Weg 31, 21129 Hamburg (Finkenwerder), Germany.

FOR FURTHER INFORMATION CONTACT: Karan Hofmann at khofmann@rtca.org or 202-330-0680, or The RTCA Secretariat, 1150 18th Street NW., Suite 910, Washington, DC, 20036, or by telephone at (202) 833-9339, fax at (202) 833-9434, or Web site at http://www.rtca.org. Note: Registration is required for building admittance.

SUPPLEMENTARY INFORMATION: Pursuant to section 10(a) (2) of the Federal Advisory Committee Act (Pub. L. 92-463, 5 U.S.C., App.), notice is hereby given for a meeting of the Thirty Third RTCA SC-216 Aeronautical Systems Security Plenary. The agenda will include the following:

Monday, July 24, 2017—9:00 a.m.-5:00 p.m.

1. Welcome and Administrative Remarks

2. Introductions

3. Agenda Review

4. Meeting—Minutes Review

5. Review Joint Action List

6. Continuation of Plenary or Working Group Sessions

Tuesday, July 25, 2017—9:00 a.m.-5:00 p.m.

7. Continuation of Plenary or Working Group Sessions

Wednesday, July 26, 2017—9:00 a.m.-5:00 p.m.

8. Continuation of Plenary or Working Group Sessions

Thursday, July 27, 2017—9:00 a.m.-5:00 p.m.

9. Review DO-356A/ED-203A for Final Review and Comment (FRAC)/Open Consultation

Friday, July 28, 2017—9:00 a.m.-12:00 p.m.

10. Schedule Update

11. Decision To Approve Release of DO-356A/ED-203A for FRAC/Open Consultation

12. Date, Place and Time of Next Meeting

13. New Business

14. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 11, 2017.
Mohannad Dawoud,
Management & Program Analyst, Partnership Contracts Branch, ANG-A17 NextGen, Procurement Services Division, Federal Aviation Administration.

[FR Doc. 2017-14798 Filed 7-13-17; 8:45 am]

BILLING CODE 4910-13-P